DEPARTMENT OF ENERGY

Federal Energy Regulatory Commission

[Docket No. EC05-20-000, et al.]

PPL Sundance Energy, Inc., et al.; Electric Rate and Corporate Filings

April 1, 2005.

The following filings have been made with the Commission. The filings are listed in ascending order within each docket classification.

1. PPL Sundance Energy, LLC; PPL EnergyPlus, LLC; Arizona Public Service Company

[Docket No. EC05-20-000]

Take notice that on March 29, 2005, PPL Sundance Energy, LLC, PPL EnergyPlus, LLC, and Arizona Public Service Company (collectively Applicants) filed an errata to its Application for Authorization to Transfer Jurisdictional Facilities Pursuant to section 203 of the Federal Power Act, filed on November 22, 2004 and supplemented on February 11, 2005.

Comment Date: 5 p.m. eastern time on April 18, 2005.

2. Yoakum Electric Generating Cooperative, Inc.

[Docket No. EG05-56-000]

Take notice that on March 29, 2005, Yoakum Electric Generating Cooperative, Inc., (Yoakum) filed with the Federal Energy Regulatory Commission, an application for determination of exempt wholesale status pursuant to part 365 of the Commission's regulations.

Yoakum states that it proposes to construct an approximately 145 Megawatt gas-fired generation facility at a site located near Denver City, Texas. Yoakum further states that it will use the facility to generate power for sale at wholesale, which it proposes to supply to Golden Spread Electric Cooperative, Inc.

Comment Date: 5 p.m. eastern time on April 19, 2005.

3. San Diego Gas & Electric Company v. Sellers of Energy and Ancillary Services Into Markets Operated by the California Independent System Operator and the California Power Exchange; Investigation of Practices of the California Independent System Operator and the California Power Exchange

[Docket Nos. EL00-95-098, EL00-95-114, EL00-95-117, EL00-95-124, EL00-98-086, EL00-98-101, EL00-98-104, EL00-98-111]

On March 29, 2005, Williams Power Company, Inc. filed a request for approval of fuel cost allowance auditor pursuant to the Commission's order issued March 18, 2005. San Diego Gas & Electric Co., et al. 110 FERC ¶ 61,293 (2005).

Comment Date: 5 p.m. eastern time on April 8, 2005.

4. Tampa Electric Company; Panda Gila River, L.P.; Union Power Partners, L.P.; TECO EnergySource, Inc.; Commonwealth Chesapeake Company, L.L.C.; TPS Dell, LLC; TPS McAdams, LLC; TECO-PANDA Generating Company, L.P.

[Docket Nos. ER99-2342-005, ER01-931-009, ER01-930-009, ER96-1563-022, ER99-415-008, ER02-510-005, ER02-507-005, ER02-1000-001]

Take notice that, on March 25, 2005, Tampa Electric Company, Panda Gila River, L.P., Union Power Partners, L.P., TECO Energy Source, Inc., Commonwealth Chesapeake Company, L.L.C., TPS Dell, LLC, TPS McAdams, LLC, and TECO-PANDA Generating Company, L.P. submitted a compliance filing pursuant to the Commission's order issued March 3, 2005. Tampa Electric Company, et al., 110 FERC ¶ 61,206 (2005).

Comment Date: 5 p.m. eastern time on April 15, 2005.

5. Pinnacle West Capital Corporation, Arizona Public Service Company, Pinnacle West Energy Corporation, APS Energy Services Company, Inc.

[Docket Nos. ER00-2268-010, EL05-10-002, ER99-4124-008, EL05-11-002, ER00-3312-005, EL05-12-002, ER99-4122-007, EL05-13-002]

Take notice that on March 29, 2005, Pinnacle West Capital Corporation, Arizona Public Service Company, Pinnacle West Energy Corporation, and APS Energy Services Company, Inc. filed an errata to their compliance filing submitted February 18, 2005 in the above-referenced proceedings.

Comment Date: 5 p.m. eastern time on April 19, 2005.

6. Midwest Independent Transmission System Operator, Inc.

[Docket Nos. ER04-691-031, ER04-691-033, EL04-104-029, EL04-104-031]

Take notice that on March 21, 2005, as amended March 29, 2005, the Midwest Independent Transmission System Operator, Inc. (Midwest ISO) submitted a compliance filing pursuant to the Commission's order issued February 18, 2005, Midwest Independent Transmission System Operator, Inc., 110 FERC ¶ 61,177 (2005).

The Midwest ISO states it has electronically served a copy of this filing, with its attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter. The Midwest ISO will provide hard copies to any interested party upon request.

Comment Date: 5 p.m. eastern time on April 11, 2005.

7. Midwest Independent Transmission System Operator, Inc.

[Docket Nos. ER05-6-016, EL04-135-018, EL02-111-036, EL03-212-032]

Take notice that on March 22, 2005, as amended March 25, 2005, American Electric Power Service Corporation (on behalf of Appalachian Power Company, Columbus Southern Power Company, Indiana Michigan Power Company, Kentucky Power Company, Kingsport Power Company , Ohio Power Company and Wheeling Power Company), Commonwealth Edison Company and Commonwealth Edison Company of Indiana, Inc., Dayton Power and Light Company and Duquesne Light Company (collectively Companies) submitted for filing revisions to reflect corrections to errors in Attachments X and R of the PJM Interconnection, L.L.C.'s Open Access Transmission Tariff, effective December 1, 2004 and revisions to these same Attachments to reflect updates effective January 1, 2005. The Companies state that the filing is also being made on behalf of the PJM West Transmission Owners Agreement Administrative Committees.

The Companies state that a copy of the filing has been served on the official service list in these proceedings.

Comment Date: 5 p.m. eastern time on April 12, 2005.

8. New York Independent System Operator, Inc.

[Docket No. ER05-727-000]

Take notice that on March 25, 2005, the New York Independent System Operator, Inc. (NYISO) submitted proposed tariff revisions to its Open Access Transmission Tariff and its Market Administration and Control Area Services Tariff. NYSIO states that the proposed tariff revisions implement rules for “Scheduled Lines” and establish the Cross-Sound Cable as the NYISO's first Scheduled Line.

NYSIO states that copies of the filing were electronically served upon the official representative of each of its customers, on each participant in its stakeholder committees, on ISO-NE, on the New York Public Service Commission, and on the electric utility regulatory agencies of New Jersey and Pennsylvania. In addition, NYSIO further states that the complete filing has been posted on the NYISO's Web site at http://www.nyiso.com.

Comment Date: 5 p.m. eastern time on April 15, 2005.

9. Constellation Energy Commodities Group Maine, LLC

[Docket No. ER05-728-000]

Take notice that on March 25, 2005, Constellation Energy Commodities Group Maine, LLC (Constellation) submitted a Notice of Succession pursuant to section 205 of the Federal Power Act and sections 35.16 and 131.51 of the Federal Energy Regulatory Commission's regulations. Constellation states as a result of a name change, Constellation is succeeding to the FERC Electric Tariff, Original Volume No.1 of Constellation Power Source Maine, LLC.

Comment Date: 5 p.m. eastern time on April 15, 2005.

10. ISO New England Inc.

[Docket Nos. ER05-730-000]

Take notice that on March 28, 2005, ISO New England Inc. (ISO-NE) and Maine Electric Power Company, Inc. (MEPCO) submitted the following: (1) The MEPCO Transmission Operating Agreement that would grant ISO-NE, as the regional transmission organization for New England, the authority to operate MEPCO's Transmission System; (2) a new Schedule 20B to Section II of the ISO-NE Transmission, Markets and Service Tariff, FERC Electric Tariff No. 3 (the ISO-NE Tariff) containing the current MEPCO open access transmission tariff; and (3) revisions to the ISO-NE Large Generator Interconnection Procedures and the pro forma Large Generator Interconnection Agreement (Schedule 22 of Section II of the ISO-NE Tariff) to account for ISO-NE's operational authority pursuant to the MEPCO Transmission Operating Agreement.

The ISO states that paper copies of the filing were sent to the New England state governors and regulatory agencies, and electronic copies were sent to the ISO's Governance Participants.

Comment Date: 5 p.m. eastern time on April 18, 2005.

11. Central Maine Power Company

[Docket No. ER05-731-000]

Take notice that on March 28, 2005, Central Maine Power Company (Central Maine) submitted a rate schedule to sell energy and capacity at market-based rates and its Wholesale Market-Based Rate Tariff.

Comment Date: 5 p.m. eastern time on April 18, 2005.

12. Midwest Independent Transmission System Operator, Inc.

[Docket No. ER05-732-000]

Take notice that on March 28, 2005, the Midwest Independent Transmission System Operator, Inc. (Midwest ISO) submitted an Interconnection and Operating Agreement, designated as Service Agreement No. 1523, among Tholen Transmission Inc., Northern States Power Company d/b/a Xcel Energy and the Midwest ISO.

Midwest ISO states that a copy of this filing was served on Tholen Transmission Inc. and Northern States Power Company d/b/a Xcel Energy.

Comment Date: 5 p.m. eastern time on April 18, 2005.

13. Southern California Edison Company

[Docket No. ER05-733-000]

Take notice that on March 28, 2005, Southern California Edison Company (SCE) submitted for filing both new and revised tariff sheets for the Added Facilities Agreement between the City of Colton, California (Colton) and SCE. SCE states that the purpose of the filing is to reflect the final actual cost to design, construct and install the Added Facilities.

SCE states that copies of the filing were served upon the Public Utilities Commission of the State of California and Colton.

Comment Date: 5 p.m. eastern time on April 18, 2005.

14. Energy Investments, LLC

[Docket No. ER05-734-000]

Take notice that on March 28, 2005, Energy Investments, LLC (EI) submitted for filing a petition requesting acceptance of its Rate Schedule FERC No. 1, under which EI will engage in wholesale electric power and energy transactions as a marketer; approval of blanket authority to purchase and resell electricity at negotiated, market-based rates; and waiver of certain Commission's regulations.

Comment Date: 5 p.m. eastern time on April 18, 2005.

15. Southern California Edison Company

[Docket No. ER05-735-000]

Take notice that on March 28, 2005, Southern California Edison Company (SCE), submitted a Notice of Cancellation of Service Agreement No. 131 and Service Agreement No. 132 under SCE's FERC Electric Tariff, First Revised Volume No. 5. SCE requests an effective date of March 19, 2005.

Comment Date: 5 p.m. eastern time on April 18, 2005.

16. Midwest Independent Transmission System Operator, Inc.

[Docket No. ER05-736-000]

Take notice that on March 28, 2005, the Midwest Independent Transmission System Operator, Inc. (Midwest ISO) submitted an Interconnection and Operating Agreement, designated as Service Agreement No. 1522, among Tholen Transmission Inc., Northern States Power Company d/b/a Xcel Energy and the Midwest ISO.

Midwest ISO states that a copy of this filing was served on Tholen Transmission Inc. and Northern States Power Company d/b/a Xcel Energy.

Comment Date: 5 p.m. Eastern Time on April 18, 2005.

17. J.L. Walker & Associates

[Docket No. ER05-740-000]

Take notice that on March 28, 2005, J.L. Walker & Associates submitted a Notice of Cancellation of its Rate Schedule FERC No. 1, accepted by the Commission by letter order issued August 7, 1995 in Docket No. ER95-1261-000.

Comment Date: 5 p.m. E eastern time on April 18, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1640 Filed 4-8-05; 8:45 am]

BILLING CODE 6717-01-P